DEPARTMENT OF ENERGY

Federal Energy Regulatory Commission

[Docket No. ER03-262-000]

The New PJM Companies: American Electric Power Service Corporation on behalf of its operating companies Appalachian Power Company, Columbus Southern Power Company, Indiana Michigan Power Company, Kentucky Power Company, Kingsport Power Company, Ohio Power Company, and Wheeling Power Company, Commonwealth Edison Company and Commonwealth Edison Company of Indiana, Inc., The Dayton Power and Light Company, Virginia Electric and Power Company, and PJM Interconnection, L.L.C.; Notice of Filing

December 18, 2002.

Take notice that on December 11, 2002, in accordance with section 205 of the Federal Power Act (FPA), American Electric Power Service Corporation on behalf of Appalachian Power Service Company, Columbus Southern Power Company, Indiana Michigan Power Company, Kentucky Power Company, Kingsport Power Company, Ohio Power Company and Wheeling Power Company (AEP), Commonwealth Edison Company and Commonwealth Edison Company of Indiana, Inc. (ComEd), Dayton Power and Light Company, and Virginia Electric and Power Company (collectively referred to as the New PJM Companies) and PJM Interconnection, L.L.C. (PJM), jointly submitted a filing to include the New PJM Companies as transmission owners within PJM, to revise the PJM West Transmission Owners Agreement, Access Transmission Tariff, and to request unconditional approval of PJM as a Regional Transmission Organization.

The New PJM Companies and PJM request that the Commission establish an effective date to coincide with the date upon which transmission service will first be provided over the transmission facilities of AEP and ComEd Date, and that the date be either February 1, 2003 or March 1, 2003.

The New PJM Companies and PJM state that a paper copy of the transmittal letter describing this filing was served on all state public utility commissions having jurisdiction over the New PJM Companies, all PJM members and all transmission customers of the New PJM Companies. In addition, the filing, in its entirety, is being posted on the PJM Web site (http://www.pjm.com) for download by any interested party.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: January 3, 2003.

Linwood A. Watson, Jr.,
Deputy Secretary.

[FR Doc. 02-32480 Filed 12-23-02; 8:45 am]

BILLING CODE 6717-01-P